PEACE CORPS

Information Collection Request; Submission for OMB Review

AGENCY: Peace Corps.

ACTION: 60-Day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995 (44 U.S.C. Chapter 35).

DATES: Submit comments on or before February 10, 2014.

ADDRESSES: Comments should be addressed to Denora Miller, FOIA/Privacy Act Officer, Peace Corps, 1111 20th Street NW., Washington, DC 20526. Denora Miller can be contacted by telephone at 202-692-1236 or email at pcfr@peacecorps.gov. Email comments must be made in text and not in attachments.

FOR FURTHER INFORMATION CONTACT: Denora Miller at Peace Corps address above.

SUPPLEMENTARY INFORMATION: The information collected by the Volunteer Application is used by the Peace Corps to collect essential information from individuals, including technical and language skills, and availability for Peace Corps service. The Peace Corps will be changing its application process to better match applicants to programs based on their skills and interests. Due to this change in the way applicants are processed and an overall agency effort to reduce the burden on applicants by only asking the most essential questions, the agency is developing a new application.

Title: Peace Corps Volunteer Application.

OMB Control Number: 0420-pending.

Type of Review: New.

Affected Public: General public.

Respondents' Obligation To Reply: Voluntary.

Burden to the Public

a. Estimated number of respondents: 20,000.

b. Estimated average burden per response: 1 hour.

c. Frequency of response: one time.

d. Annual reporting burden: 20,000.

e. Number of applications received electronically (99%): 19,800.

f. Number of applications received in hard copy (1%): 200.

General Description of Collection: The Volunteer Application is used by Peace Corps in its assessment of an individual's qualifications to serve as a Peace Corps Volunteer. It is the document of record for an individual's decision to apply for Peace Corps service.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC, on December 6, 2013.

Dated: December 12, 2013.
Denora Miller,
FOIA/Privacy Act Officer, Management.

[FR Doc. 2013-29661 Filed 12-11-13; 8:45 am]

BILLING CODE 6051-01-P